NATIONAL AERONAUTICS AND SPACE ADMINISTRATION

[Notice 02-108]

Notice of Prospective Patent License

AGENCY: National Aeronautics and Space Administration.

ACTION: Notice of prospective patent license.

SUMMARY: NASA hereby gives notice that Intellimotion Systems Corporation of Moffett Field, CA, has applied for partially exclusive license to practice the invention described and claimed in U. S. Patent Nos. 6,161,097 and 6,278,965, “Automated Traffic Management System and Method,” and “Real-Time Surface Traffic Advisor” (TRAJECT), which are both assigned to the United States of America as represented by the Administrator of the National Aeronautics and Space Administration. Written objections to the prospective grant of a license should be sent to NASA Ames Research Center.

DATES: Responses to this notice must be received by October 4, 2002.

FOR FURTHER INFORMATION CONTACT: Robert M. Padilla, Chief Patent Counsel, NASA Ames Research Center, Mail Stop 202A-4, Moffett Field, CA 94035-1000, telephone (650) 604-5104.

Dated: September 13, 2002.
Robert M. Stephens,
Deputy General Counsel.

[FR Doc. 02-23766 Filed 9-18-02; 8:45 am]

BILLING CODE 7510-01-P